DEPARTMENT OF HEALTH AND HUMAN SERVICES

Food and Drug Administration

21 CFR Part 73

[Docket No. FDA-2020-C-1309]

GNT USA, Inc.; Filing of Color Additive Petition

AGENCY: Food and Drug Administration, HHS.

ACTION: Notification of petition.

SUMMARY: The Food and Drug Administration (FDA or we) is announcing that we have filed a petition, submitted by GNT USA, Inc. (GNT), proposing that the color additive regulations be amended to expand the safe use of spirulina (Arthrospira platensis) extract at levels consistent with good manufacturing practice.

DATES: The color additive petition was filed on February 21, 2020.

ADDRESSES: For access to the docket to read background documents or comments received, go to https://www.regulations.gov and insert the docket number found in brackets in the heading of this document into the “Search” box and follow the prompts, and/or go to the Dockets Management Staff, 5630 Fishers Lane, Rm. 1061, Rockville, MD 20852.

FOR FURTHER INFORMATION CONTACT: Stephanie A. Hice, Center for Food Safety and Applied Nutrition, Food and Drug Administration, 5001 Campus Dr., College Park, MD 20740, 301-348-1740.

SUPPLEMENTARY INFORMATION: Under the Federal Food, Drug, and Cosmetic Act section 721(d)(1) (21 U.S.C. 379e(d)(1))), we are giving notice that we have filed a color additive petition (CAP 0C0316), submitted by GNT, c/o Hogan Lovells US LLP, 555 13th St. NW, Washington, DC 20004. The petition proposes to amend the color additive regulations in 21 CFR 73.530 Spirulina extract to expand the use of spirulina (Arthrospira platensis) extract to include alcoholic beverages, non-alcoholic beverages, condiments and sauces, dips, plant-based products, salad dressings, and seasoning mixes at levels consistent with good manufacturing practice.

We have determined under 21 CFR 25.32(k) that this action is of a type that does not individually or cumulatively have a significant effect on the human environment. Therefore, neither an environmental assessment nor an environmental impact statement is required.

Dated: April 28, 2020.
Lowell J. Schiller,
Principal Associate Commissioner for Policy.

[FR Doc. 2020-09311 Filed 5-7-20; 8:45 am]

BILLING CODE 4164-01-P